ENVIRONMENTAL PROTECTION AGENCY

40 CFR Part 52

[EPA-R03-OAR-2020-0320; FRL-10020-55-Region 3]

Air Plan Approval; Pennsylvania; 1997 8-Hour Ozone National Ambient Air Quality Standard Second Maintenance Plan for the Youngstown-Warren-Sharon Area; Reopening of Comment Period

AGENCY: Environmental Protection Agency (EPA).

ACTION: Proposed rule; reopening of public comment period.

SUMMARY: The Environmental Protection Agency (EPA) is reopening the comment period for a proposed rulemaking published in the Federal Register on October 30, 2020. EPA is reopening the comment period based on a request for a 15-day extension.

DATES: The comment period will reopen until March 16, 2021 to allow additional time for stakeholders to review and comment on the proposal. The comment period for the proposed rulemaking published October 30, 2020 (85 FR 68826), which ended on November 30, 2020, is being reopened. EPA must receive comments on or before March 16, 2021.

ADDRESSES: Submit your comments, identified by Docket ID No. EPA-R03-OAR-2020-0320 at https://www.regulations.gov, or via email to gordon.mike@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets.

FOR FURTHER INFORMATION CONTACT: Keila M. Pagán-Incle, Planning & Implementation Branch (3AD30), Air & Radiation Division, U.S. Environmental Protection Agency, Region III, 1650 Arch Street, Philadelphia, Pennsylvania 19103. The telephone number is (215) 814-2926. Ms. Pagán-Incle can also be reached via electronic mail at pagan-incle.keila@epa.gov.

SUPPLEMENTARY INFORMATION: EPA proposed to approve a state implementation plan (SIP) revision submitted on March 10, 2020 by the Pennsylvania Department of Environmental Protection (PADEP). The SIP submittal (also referred to as “1997 8-hour Ozone National Ambient Air Quality Standard Second Maintenance Plan for the Youngstown-Warren-Sharon Area”) addresses Clean Air Act (CAA) requirements for the 1997 8-hour ozone national ambient air quality standard (NAAQS) in the Youngstown-Warren-Sharon Area. EPA's October 30, 2020 notice proposed to approve the second maintenance plan for the Pennsylvania portion of the Youngstown-Warren-Sharon Area as a revision to the Pennsylvania SIP.

EPA is reopening the comment period based on an anonymous request to reopen the comment period. The commenter states they were unable to obtain information about EPA's proposed rulemaking via email or phone from the EPA contact listed in the October 30, 2020 notice. After reviewing this request, EPA has determined that the listed EPA contact was not available via email or phone during approximately half of the 30-day comment period. Therefore, EPA has decided to reopen the comment period for an additional 15 days to March 16, 2021. All comments received on or before March 16, 2021 will be entered into the public record and considered by EPA before taking final action on the proposed rulemaking. Comments submitted between the close of the original comment period and the re-opening of this comment period will be accepted and considered.

Dated: February 18, 2021.
Diana Esher,
Acting Regional Administrator, Region III.

[FR Doc. 2021-04106 Filed 2-26-21; 8:45 am]

BILLING CODE 6560-50-P